DEPARTMENT OF DEFENSE

Department of the Army

[DOD-2006-OS-0076]

Privacy Act of 1974; System of Records

AGENCY: Department of the Army, DoD.

ACTION: Notice to Amend a System of Records.

SUMMARY: The Department of the Army is proposing to amend a system of records notice in its existing inventory of records systems subject to the Privacy Act of 1974, (5 U.S.C. 552a), as amended.

DATES: This proposed action will be effective without further notice on June 5, 2006 unless comments are received which result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6503.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: May 1, 2006.
L.M. Bynum,
OSD Federal Register Liaison Officer, Department of Defense.

A0040-5a DASG

System name:

Defense Medical Surveillance System (January 5, 2004, 69 FR 327).

Changes:

* * * * *

System Identifier:

Add “DoD” to the end of the system identifier.

* * * * *

A00400-5a DASG DoD

System name:

Defense Medical Surveillance System.

System location:

U.S. Army Center for Health Promotion and Prevention Medicine, 5158 Blackhawk Road, Aberdeen Proving Ground, MD 21010-5403; and Army Medical Surveillance Activity, Building T-20, Room 213, 6900 Georgia Avenue, NW., Washington, DC 20307-5001.

Categories of individuals covered by the system:

Department of Defense military personnel (active and reserve) and their family members; DoD civilian personnel deploying with the Armed Forces; applicants for military service; and individuals who participate in DoD health surveys.

Categories of records in the system:

The Defense Medical Surveillance System contains up-to-date and historical data on diseases and medical events (e.g., hospitalizations, ambulatory visits, reportable diseases, HIV tests, acute respiratory diseases, and health risk appraisals) and longitudinal data on personnel and deployments.

Information in this system of records originates from personnel systems, medical records, health surveys (e.g., Pentagon Post Disaster Health Assessment) and/or health assesments made from specimen collections (remaining serum from blood samples) from which serologic tests can be performed (serum number, specimen locator information, collection date, place of collection).

Records being maintained include individual's name, Social Security Number, date of birth, sex, branch of service, home address, age, medical treatment facility, condition of medical and physical health and capabilities, responses to survey questions, register number assigned, and similar records, information and reports, relevant to the various registries; and specimen collections (remaining serum from blood samples) from which serologic tests can be performed (serum number, specimen locator information, collection date, place of collection).

Authority for maintenance of the system:

5 U.S.C. 301, Departmental Regulations; 10 U.S.C. 136, Under Secretary of Defense for Personnel and Readiness; 10 U.S.C. 3013, Secretary of the Army, 10 U.S.C. 8013, Secretary of the Air Force, 10 U.S.C. 5013, Secretary of the Navy; DoD Instruction 1100.13, Surveys of DoD Personnel; DoD Directive 6490.2, Joint Medical Surveillance; DoD Directive 6490.3, Implementation and Application of Joint Medical Surveillance for Deployments; and E.O. 9397 (SSN).

Purpose(s):

The Defense Medical Surveillance System (DMSS) supports a systematic collection, analysis, interpretation, and reporting of standardized, population based data for the purposes of characterizing and countering medical threats to a population's health, well being, and performance. The Army Medical Surveillance Activity, which operates the DMSS, routinely publishes summaries of notifiable diseases, trends of illnesses of special surveillance interest and field reports describing outbreaks and case occurrences in the Medical Surveillance Monthly Report, the principal vehicles for disseminating medical surveillance information of broad interest. Through DMSS, The Army Medical Surveillance Activity provides the sole link between the DoD Serum Repository and other databases. This repository contains over 32 million frozen serum specimens and is the largest of its kind in the world.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system, except that these routine uses do not apply to the Serum Repository.

Note: This system of records contains individually identifiable health information. The DoD Health Information Privacy Regulation (DoD) 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Information is retrieved by individual's name, Social Security Number, registry number, and specimen number.

Safeguards:

Records are maintained within secured buildings in areas accessible only to persons having official need, and who therefore are properly trained and screened. Automated segments are protected by controlled system passwords governing access to data.

Retention and disposal:

Records are destroyed when no longer needed for reference and for conducting business.

System manager(s) and address:

Chief of Army Medical Surveillance Activity, The Surgeon General, Headquarters, Department of the Army, 5109 Leesburg Pike, Falls Church, VA 22041-3258.

Notification procedures:

Individuals seeking to determine whether information about themselves is contained in this system should address written inquiries to the Commander, U.S. Army Center for Health Promotion and Prevention Medicine, 5158 Blackhawk Road, Aberdeen Proving Ground, MD 21010-5403.

For verification purposes, individual should provide their full name, Social Security Number, any details which may assist in locating records, and their signature.

Record access procedures:

Individuals seeking access to information about themselves contained in this system should address written inquiries to the Commander, U.S. Army Center for Health Promotion and Prevention Medicine, 5158 Blackhawk Road, Aberdeen Proving Ground, MD 21010-5403.

For verification purposes, individual should provide their full name, Social Security Number, any details which may assist in locating records, and their signature.

Contesting record procedures:

The Army's rules for accessing records, and for contesting contents and appealing initial agency determinations are contained in Army Regulation 340-21; 32 CFR part 505; or may be obtained from the system manager.

Record source categories:

From the individual, personnel and medical records, and mortality reports.

Exemptions claimed for the system:

None.

[FR Doc. 06-4247 Filed 5-4-06; 8:45 am]

BILLING CODE 5001-06-M